DEPARTMENT OF TRANSPORTATION

Federal Aviation Administration

14 CFR Part 39

[Docket No. 99-CE-80-AD]

RIN 2120-AA64

Airworthiness Directives; Raytheon Aircraft Company Beech Models 65-90, 65-A90, 65-A90-1, 65-A90-4, B90, C90, C90A, E90, and H-90 Airplanes

AGENCY: Federal Aviation Administration, DOT.

ACTION: Notice of proposed rulemaking (NPRM).

SUMMARY: This document proposes a new airworthiness directive (AD) that would apply to certain Raytheon Aircraft Company (Raytheon) Beech Models 65-90, 65-A90, 65-A90-1, 65-A90-4, B90, C90, C90A, E90, and H-90 airplanes. This proposed AD would require you to repetitively inspect the main landing gear upper torque knees and lower torque knees for evidence of fatigue cracks; and replace any torque knee with evidence of fatigue cracks. The proposed AD is the result of reports of many incidents of main landing gear torque knees cracking or breaking on the above-referenced airplanes. The actions specified by this proposed AD are intended to detect and replace cracked main landing gear torque knees, which could result in failure of the main landing gear and consequent loss of control of the airplane during takeoff, landing, or other ground operations.

DATES: The Federal Aviation Administration (FAA) must receive any comments on this proposed rule by October 31, 2001.

ADDRESSES: You may get the service information referenced in this AD from Raytheon Aircraft Company, P.O. Box 85, Wichita, Kansas 67201-0085; telephone: (800) 429-5372 or (316) 676-3140; or on the Internet at http://www.raytheon.com/rac/servinfo/32-3134r1.pdf and http://www.raytheon.com/rac/servinfo/32-3116.pdf. These files are in Adobe Portable Document Format. The Acrobat Reader is available at http://www.adobe.com/. You may read this information at the Federal Aviation Administration (FAA), Central Region, Office of the Regional Counsel, Attention: Rules Docket No. 99-CE-80-AD, 901 Locust, Room 506, Kansas City, Missouri 64106.

FOR FURTHER INFORMATION CONTACT: Mr. Steven E. Potter, Aerospace Engineer, FAA, Wichita Aircraft Certification Office, 1801 Airport Road, Room 100, Wichita, Kansas 67209; telephone: (316) 946-4124; facsimile: (316) 946-4407.

SUPPLEMENTARY INFORMATION: How can I be sure FAA receives my comment? If you want us to acknowledge the receipt of your comments, you must include a self-addressed, stamped postcard. On the postcard, write “Docket No. 99-CE-80-AD.” We will date stamp and mail the postcard back to you.

Discussion

What events have caused this proposed AD? The FAA has received reports of many incidents of fatigue cracks occurring on main landing gear torque knees. There have been at least four reports where the main landing gear separated from the airplane.

The cause of this problem is cumulative fatigue damage on the main landing gear torque knees.

What are the consequences if the condition is not corrected? This condition, if not corrected, could result in the failure of the main landing gear while the airplane is in operation with consequent loss of control of the airplane during takeoff, landing, or other ground operations.

Relevant Service Information

Is there service information that applies to this subject? Raytheon has issued these service bulletins:

—Service Bulletin SB 32-3134, Revision 1, Revised: July 1999; and

—Service Bulletin SB 32-3116, issued October 1999.

What are the provisions of this service bulletin? The service bulletins include procedures for:

—Repetitively inspecting the main landing gear upper and lower torque knees for fatigue cracks; and

—replacing any torque knees with fatigue cracks.

The FAA's Determination and an Explanation of the Provisions of the Proposed AD

What has FAA decided? After examining the circumstances and reviewing all available information related to the incidents described above, we have determined that:

—The unsafe condition referenced in this document exists or could develop on other Raytheon Beech Models 65-90, 65-A90, 65-A90-1, 65-A90-4, B90, C90, C90A, E90, and H-90 airplanes of the same type design;

—the actions specified in the previously-referenced service information should be accomplished on the affected airplanes; and

—AD action should be taken in order to correct this unsafe condition.

What would the proposed AD require? This proposed AD would require you to incorporate the actions in the previously referenced service bulletins.

Cost Impact

How many airplanes does this proposed AD impact? We estimate that this proposed AD would affect 2,124 airplanes in the U.S. registry.

What is the cost impact of this proposed AD on owners/operators of the affected airplanes? We estimate the following costs to inspect the landing gear torque knees:

Labor cost | Parts cost | Total cost for each airplane | Total cost on U.S. airplane operators
20 workhours × $60 per hour = $1200 | $50 per airplane | $1,250 | $1,250 × 2,124 = $2,655,000
The manufacturer will also allow warranty credit to the extent noted in the service bulletin.

These costs only take into account the costs of the initial inspection. We have no way of determining the number of repetitive inspections each owner/operator will incur over the life of the affected airplane.

We estimate the following costs to do any necessary torque knee replacements that would be required based on the results of the proposed inspection. We have no way of determining the number of airplanes that may need such replacement:

Labor cost | Parts cost | Total cost per airplane
8 workhours × $60 per hour = $480 | $3,286 per airplane | $3,766 per airplane.

Regulatory Impact

Does this proposed AD impact various entities? The regulations proposed would not have a substantial direct effect on the States, on the relationship between the national government and the States, or on the distribution of power and responsibilities among the various levels of government. Therefore, it is determined that this proposed rule would not have federalism implications under Executive Order 13132.

Does this proposed AD involve a significant rule or regulatory action? For the reasons discussed above, I certify that this proposed action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 99-CE-80-AD.

(a) What airplanes are affected by this AD? This AD affects the following Beech airplane models and serial numbers that are certificated in any category:

Model | Serial numbers
65-90, 65-A90, B90, C90, and C90A | LJ-1 through LJ-1559.
65-A90-1 | LM-1 through LM-141.
65-A90-4 | LU-1 through LU-16.
E90 | LW-1 through LW-347.
H-90 | LL-1 through LL-61.

(b) Who must comply with this AD? Anyone who wishes to operate any of the above airplane models must comply with this AD.

(c) What problem does this AD address? The actions specified by this AD are intended to detect and replace cracked main landing gear torque knees, which could result in failure of the main landing gear with consequent loss of control of the airplane during takeoff, landing, or other ground operations.

(d) What must I do to address this problem? To address this problem, you must do the following actions:

Actions | Compliance times | Procedures
(1) Inspect the main landing gear upper torque knee and lower torque knee for fatigue cracks | Inspect within the next 100 hours time-in-service (TIS) after the effective date of this AD, and thereafter at intervals not to exceed 1,000 hours TIS | Do the action following the Accomplishment Instructions paragraph of Raytheon Mandatory Service Bulletin SB 32-3134, Revision 1, Revised: July 1999, and the applicable airplane maintenance manual.
(2) If fatigue cracks are found in the main landing gear torque knees during any inspection required by this AD, replace the cracked torque knees | Before further flight after the inspection | Do the action following the Accomplishment Instructions paragraph of Raytheon Mandatory Service Bulletin SB 32-3116, Issued: October 1999, and the applicable airplane maintenance manual.
(3) When both the left and right main landing gear upper and lower torque knees are replaced with new upper torque knees (part number 50-810032-12) and new lower torque knees (part number 50-810295-25), the repetitive inspection requirement of this AD is no longer required | You may replace all torque knees at any time, except for those torque knees that are found with evidence of fatigue cracks. Such torque knees must be replaced before further flight, as required by paragraph (d)(2) of this AD | Do the action following the Accomplishment Instructions paragraph of Raytheon Mandatory Service Bulletin SB 32-3116, Issued: October 1999, and the applicable airplane maintenance manual.

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Steven E. Potter, Aerospace Engineer, Wichita Aircraft Certification Office, FAA, 1801 Airport Road, Room 100, Wichita, Kansas 67209; telephone: (316) 946-4124; facsimile: (316) 946-4407.

(g) What if I need to fly the airplane to another location to comply with this AD? The FAA can issue a special flight permit under §§ 21.197 and 21.199 of the Federal Aviation Regulations (14 CFR 21.197 and 21.199) to operate your airplane to a location where you can accomplish the requirements of this AD.

(h) How do I get copies of the documents referenced in this AD? You can get copies from Raytheon Aircraft Company, P.O. Box 85, Wichita, Kansas 67201-0085; telephone: (800) 429-5372 or (316) 676-3140; or on the Internet at http://www.raytheon.com/rac/servinfo/32-3134r1.pdf and http://www.raytheon.com/rac/servinfo/32-3116.pdf. These files are in Adobe Portable Document Format. The Acrobat Reader is available at http://www.adobe.com/. You can look at copies at the FAA, Central Region, Office of the Regional Counsel, 901 Locust, Room 506, Kansas City, Missouri.

Issued in Kansas City, Missouri, on August 17, 2001.
Michael Gallagher,
Manager, Small Airplane Directorate, Aircraft Certification Service.

[FR Doc. 01-21498 Filed 8-24-01; 8:45 am]

BILLING CODE 4910-13-U